DEPARTMENT OF JUSTICE

Notice of Lodging of Consent Decree Under the Clean Air Act, the Resource Conservation and Recovery Act, the Clean Water Act, and the Safe Drinking Water Act

Under 28 CFR 50.7, notice is hereby given that on April 21, 2000, a proposed Consent Decree in United States v. TPI Petroleum, Inc., Diamond Shamrock Refining Co., Diamond Shamrock Refining and Marketing Co., Sigmor Pipeline Co., and TPI Pipeline Corp. Civil Action No. 00-CV-10151-BC (E.D. Mich.), was lodged with the United States District Court for the Eastern District of Michigan, Northern Division.

In this action, the United States sought injunctive relief and penalties against Defendant TPI Petroleum, Inc. (“TPI”) for claims arising in connection with TPI's refinery in Alma, Michigan, under the Clean Air Act, as amended, 42 U.S.C. 7401 et seq.,; the Resource Conservation and Recovery Act, as amended, 42 U.S.C. 6901 et seq.; the Clean Water Act, as amended, 33 U.S.C. 1251 et seq.; and the Safe Drinking Water Act, as amended, 42 U.S.C. 300f et seq. The United States also sought injunctive relief and penalties from Diamond Shamrock Refining Co., Diamond Shamrock Refining and Marketing Co, Sigmor Pipeline Co., and TPI Pipeline Corp. (“Slotted Guidepole Defendants”) under the New Source Performance Standards of the Clean Air Act for Ka and Kb tanks, 40 CFR 60.112a(a)(1)-(2), and 60.112b(a)(1)-(2), and, with respect to the Corpus Christi product terminal owned by Sigmor Pipeline Co., the corollary requirements under the Texas State Implementation Plan, Tex. Admin, Code title 30 § 115.112.

Under the Consent Decree, TPI will submit quarterly reports regarding the status of its shutdown and decommissioning of the Alma Refinery. TPI will also close certain hazardous waste management units pursuant to the requirements of the Resource Conservation and Recovery Act, and will work with the U.S. Environmental Protection Agency and the Michigan Department of Environmental Quality to negotiate a corrective action consent order. TPI will perform a $9 million sediment remediation Supplemental Environmental Project (“SEP”) on the Horse Creek and Pine River in Gratiot County, Michigan, and a $900,000 Brownfield SEP in the downtown waterfront area of Alma, Michigan, TPI will pay a cash penalty of $4 million.

Under the Consent Decree, TPI and the Slotted Guidepole Defendants will install controls on tanks that are equipped with guidepoles that have slots in them.

The Department of Justice will receive for a period of thirty (30) days from the date of this publication comments relating to the Consent Decree. Comments should be addressed to the Assistant Attorney General, Environment and Natural Resources Division, Department of Justice, P.O. Box 7611, Washington, DC 20044-7611, and should refer to United States v. TPI Petroleum, Inc., et al., Civil Action No. 00-CV-10151-BC, D.J. No. 90-5-2-1-2199.

The Consent Decree may be examined at: (1) The Office of the United States Attorney, 101 First St., Suite 200, Bay City, Mich., 48706, (2) the Region 5 Office of the U.S. Environmental Protection Agency, 77 West Jackson Boulevard, Chicago, IL 60604-3590. A copy of the Consent Decree may be obtained by mail from the Department of Justice consent Decree Library, P.O. Box 7611, Washington, DC 20044. In requesting a copy, please refer to the above-referenced case and DOJ Reference Number 90-5-2-1-2199, and enclose a check in the amount of $39.25 (25 cents per page reproduction cost) payable to the Consent Decree Library.

Bruce S. Gelber,
Deputy Chief, Environmental Enforcement Section, Environment and Natural Resources Division.

[FR Doc. 00-11371 Filed 5-5-00; 8:45 am]

BILLING CODE 4410-15-M